DEPARTMENT OF AGRICULTURE

Forest Service

Notice of New Recreation Fee

AGENCY: Plumas National Forest, Forest Service, USDA.

ACTION: Notice of new recreation fee; Federal Lands Recreation Enhancement Act, (Title VIII, Pub. L. 108-447).

SUMMARY: The Plumas National Forest is proposing to add Crocker Guard Station to the recreation rental program. The proposal is to charge $85.00 per night. The house has four bedrooms with a total of nine beds, a living room, a dining room and a kitchen. A vault toilet building was installed in June 2015. The rental building will have a propane operated heater, stove and lights. Visitors will have to bring water. The building will accommodate up to 16 people.

Fees are assessed based on the level of amenities and services provided, cost of operation and maintenance, market assessment and public comment. The fee listed is only proposed and final determination will be made upon further analysis and public comment. Other cabin rentals on National Forests in California have shown the public appreciates the enhanced recreational opportunity offered by these rehabilitated historic structures. Revenue from the fees would be retained locally and used for the operation and maintenance of the facility, and for future improvements.

DATES: Send any comments about this fee proposal by January 15, 2016 so comments can be compiled, analyzed and shared with the Recreation Resource Advisory Council (RRAC) prior to final decision and implementation by the Regional Forester, Region 5, USDA Forest Service. If approved, the rental would be available in April 2016.

ADDRESSES: Chris French, Acting Forest Supervisor, Plumas National Forest, 159 Lawrence Street, Quincy California 95971

FOR FURTHER INFORMATION CONTACT: Mary Kliejunas, District Archaeologist, Beckwourth Ranger District, Plumas National Forest, 530-836-2575 or email mkliejunas@fs.fed.us. Information about the proposed new fee can also be found on the Plumas National Forest Web site: http://www.fs.usda.gov/plumas.

SUPPLEMENTARY INFORMATION: The Federal Recreation Lands Enhancement Act (Title VII, Pub. L. 108-447) directed the Secretary of Agriculture to publish a six month advance notice in the Federal Register whenever new recreation fee areas are established.

This proposed new fee will be reviewed by a Recreation Resource Advisory Committee prior to a final decision and implementation.

The Plumas National Forest currently has one cabin rental, which is booked regularly throughout the season of operation. The public has expressed interest in additional cabin rental opportunities on the Forest.

People wanting to rent Crocker Guard Station will need to do so through the National Recreation Reservation Service, at www.recreation.gov or by calling 1-877-444-6777. The National Recreation Reservation Service charges a $9 fee for online reservations and a $10 fee for phone reservations.

Dated: June 10, 2015.
Chris French,
Acting Forest Supervisor.

[FR Doc. 2015-15243 Filed 6-19-15; 8:45 am]

BILLING CODE 3411-15-P